DEPARTMENT OF TRANSPORTATION

Federal Railroad Administration

[Docket Number FRA-2011-0050]

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief. FRA has assigned the petition Docket Number FRA-2011-0050.

The Alaska Railroad Corporation (ARRC) has applied for extension of the clean, repair, and test intervals for air brake valves and related components, as required by the Railroad Locomotive Safety Standards found at Title 49 Code of Federal Regulations (CFR) Section 229.27, Annual tests, and Section 229.29, Biennial tests. This relief has been requested for Locomotives ARRC 4001-4016, which are equipped with New York Air Brake (NYAB) CCB-I brake systems; Locomotives ARRC 4317-4328, which are equipped with NYAB CCB-II brake systems; and Diesel Multiple Unit ARRC 751, which is equipped with a NYAB CCB-II brake system. These units are also equipped with air dryers. Applications were originally submitted by ARRC for inclusion under the relief granted to the Association of American Railroads (AAR) by Waiver Docket Number FRA-2005-21613. However, the decision letter for that waiver specifically limits the relief to AAR member railroads. ARRC is not an AAR member; therefore, separate processing of these requests is necessary.

In support of this petition, ARRC submitted letters from NYAB attesting to the essential similarity of the air brake systems on these units to air brake systems on locomotives tested and inspected at extended intervals and granted relief under FRA-2005-21613 on CSX Transportation and the Canadian Pacific Railway. In addition, ARRC reported that they have experienced very few failures on units equipped with CCB brake systems, and that inspection of air brake components removed from Locomotives 4001-4016, at 5 years of age, “revealed exceptional cleanliness and no issues were noted which would prevent the continued serviceability of the parts or materials * * *. ”

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2011-0050) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 21, 2012 will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on March 30, 2012.
Ron Hynes,
Acting Deputy Associate Administrator for Regulatory and Legislative Operations.

[FR Doc. 2012-8175 Filed 4-4-12; 8:45 am]

BILLING CODE 4910-06-P